NATIONAL SCIENCE FOUNDATION

Membership of National Science Foundation's Senior Executive Service Performance Review Board

AGENCY: National Science Foundation.

ACTION: Notice.

SUMMARY: The National Science Foundation is announcing the members of the Senior Executive Service Performance Review Board.

ADDRESSES: Comments should be addressed to Branch Chief, Executive Services, Division of Human Resource Management, National Science Foundation, Room W15219, 2415 Eisenhower Avenue, Alexandria, VA 22314.

FOR FURTHER INFORMATION CONTACT: Ms. Jennifer Munz at the above address or (703) 292-2478.

SUPPLEMENTARY INFORMATION: The membership of the National Science Foundation's Senior Executive Service Performance Review Board is as follows:

• F. Fleming Crim, Chief Operating Officer, Chairperson

• Wonzie Gardner, Chief Human Capital Officer and Office Head, Office of Information and Resource Management

• Anne Kinney, Assistant Director, Directorate for Mathematical and Physical Sciences

• Suzanne C. Iacono, Office Head, Office of Integrative Activities

• Michael Wetklow, Deputy Chief Financial Officer and Division Director, Budget Division

• Joanne Tornow, Assistant Director, Directorate for Biological Sciences

• Erwin Gianchandani, Deputy Assistant Director, Directorate for Computer and Information Science and Engineering

This announcement of the membership of the National Science Foundation's Senior Executive Service Performance Review Board is made in compliance with 5 U.S.C. 4314(c)(4).

Dated: May 24, 2019.
Suzanne H. Plimpton,
Reports Clearance Officer, National Science Foundation.

[FR Doc. 2019-11245 Filed 5-29-19; 8:45 am]

BILLING CODE 7555-01-P